DEPARTMENT OF DEFENSE

Office of the Secretary

[Transmittal No. 22-69]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives with attached Transmittal 22-69, Policy Justification, and Sensitivity of Technology.

Dated: August 12, 2024.
Patricia L. Toppings,
OSD Federal Register Liaison Officer, Department of Defense.

BILLING CODE 6001-FR-P

BILLING CODE 6001-FR-C

Transmittal No. 22-69

Notice of Proposed Issuance of Letter of Offer Pursuant to Section 36(b)(1) of the Arms Export Control Act, as amended

(i) Prospective Purchaser: Government of Switzerland

(ii) Total Estimated Value:

Major Defense Equipment * | $600 million
Other | $100 million
TOTAL | $700 million

(iii) Description and Quantity or Quantities of Articles or Services under Consideration for Purchase:

Major Defense Equipment:

Up to seventy-two (72) PATRIOT Advanced Capability (PAC) 3 Missile Segment Enhanced (MSE) Missiles

Non-MDE:

Also included are telemetry kits; PAC-3 MSE missile round trainers; PAC-3 MSE empty round trainers; PAC-3 missile skid kits; launcher stations heater controls; classified missile repair and return; classified PAC-3 concurrent spare parts; unclassified PAC-3 concurrent spare parts; PAC-3 MSE canister consumables; quality assurance; Field Surveillance Program; U.S. Government and contractor technical, engineering, and logistics technical assistance; flight test support; flight test targets; and other related elements of logistics and program support.

(iv) Military Department: Army (SZ-B-UCA)

(v) Prior Related Cases, if any: SZ-B-UAS

(vi) Sales Commission, Fee, etc., Paid, Offered, or Agreed to be Paid: None

(vii) Sensitivity of Technology Contained in the Defense Article or Defense Services Proposed to be Sold: See Attached Annex

(viii) Date Report Delivered to Congress: November 15, 2022

* As defined in Section 47(6) of the Arms Export Control Act.

POLICY JUSTIFICATION

Switzerland—PATRIOT Advanced Capability (PAC) 3 Missile Segment Enhanced (MSE) Missiles

The Government of Switzerland has requested to buy up to seventy-two (72) PATRIOT Advanced Capability (PAC) 3 Missile Segment Enhanced (MSE) missiles. Also included are telemetry kits; PAC-3 MSE missile round trainers; PAC-3 MSE empty round trainers; PAC-3 missile skid kits; launcher stations heater controls; classified missile repair and return; classified PAC-3 concurrent spare parts; unclassified PAC-3 concurrent spare parts; PAC-3 MSE canister consumables; quality assurance; Field Surveillance Program; U.S. Government and contractor technical, engineering, and logistics technical assistance; flight test support; flight test targets; and other related elements of logistics and program support. The total estimated cost is $700 million.

This proposed sale will support the foreign policy and national security objectives of the United States by helping to improve the security of a friendly European nation that continues to be an important force for political stability and economic progress within Europe.

The proposed sale of the PAC-3 MSE missiles will enhance the capability of Switzerland's PATRIOT missile defense system. Switzerland will use the PATRIOT system and missiles to defend its territorial integrity and for regional stability. The proposed sale supports Switzerland's goal of improving national and territorial defense as well as interoperability with U.S. and NATO forces. Switzerland will have no difficulty absorbing this equipment into its armed forces.

The proposed sale of this equipment and support will not alter the basic military balance in the region.

The prime contractor will be Lockheed-Martin, Dallas, Texas. The purchaser typically requests offsets. Any offset agreement will be defined in negotiations between the purchaser and the contractor.

Implementation of this proposed sale will require approximately five (5) U.S. Government and five (5) contractor representatives to travel to Switzerland for an extended period for equipment de-processing/fielding, and technical and logistics support.

There will be no adverse impact on U.S. defense readiness as a result of this proposed sale.

Transmittal No. 22-69

Notice of Proposed Issuance of Letter of Offer Pursuant to Section 36(b)(1) of the Arms Export Control Act

Annex

Item No. vii

(vii) Sensitivity of Technology:

1. The PATRIOT Advanced Capability (PAC) 3 Missile Segment Enhanced missile is a small, highly agile, kinetic kill interceptor for defense against tactical ballistic missiles, cruise missiles and air-breathing threats. The MSE variant of the PAC-3 missile represents the next generation in hit-to-kill interceptors and provides expanded battlespace against evolving threats. The PAC-3 MSE improves upon the original PAC-3 capability with a higher performance solid rocket motor, modified lethality enhancer, more responsible control surfaces, upgraded guidance software, and insensitive munitions improvements.

2. The highest level of classification of defense articles, components, and services included in this potential sale is SECRET.

3. If a technologically advanced adversary were to obtain knowledge of the hardware and software elements, the information could be used to develop countermeasures or equivalent systems, which might reduce system effectiveness or be used in the development of a system with similar or advanced capabilities.

4. A determination has been made that Switzerland can provide substantially the same degree of protection for the sensitive technology being released as the U.S. Government. This sale is necessary in furtherance of the U.S. foreign policy and national security objectives outlined in the Policy Justification.

5. All defense articles and services listed in this transmittal have been authorized for release and export to the Government of Switzerland.

[FR Doc. 2024-18295 Filed 8-14-24; 8:45 am]

BILLING CODE 6001-FR-P